DEPARTMENT OF LABOR

Employment and Training Administration

[TA-W-60,463]

Cott Beverages Wyomissing, Inc., Including On-Site Leased Workers of Gage Personnel, Tempstar Staffing, and CGI Wyomissing, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 10, 2007, applicable to workers of Cott Beverages Wyomissing, Inc., including on-site leased workers of Gage Personnel and Tempstar Staffing, Wyomissing, Pennsylvania. The notice was published in the Federal Register on January 25, 2007 (72 FR 3424).

At the request of the petitioner, the Department reviewed the certification for workers of the subject firm. The workers were engaged in the production of soft drinks.

New information shows that leased workers of CGI were employed on-site at the Wyomissing, Pennsylvania location of Cott Beverages Wyomissing, Inc.

Based on these findings, the Department is amending this certification to include leased workers of CGI working on-site at Cott Beverages Wyomissing, Inc., Wyomissing, Pennsylvania.

The intent of the Department's certification is to include all workers employed at Cott Beverages Wyomissing, Inc., Wyomissing, Pennsylvania who were adversely affected by a shift in production of soft drinks to Canada.

The amended notice applicable to TA-W-60,463 is hereby issued as follows:

“All workers of Cott Beverages Wyomissing, Inc., including on-site leased workers of Gage Personnel, Tempstar Staffing, and CGI, Wyomissing, Pennsylvania, who became totally or partially separated from employment on or after November 20, 2005, through January 10, 2009, are eligible to apply for adjustment assistance under Section 223 of the Trade Act of 1974, and are also eligible to apply for alternative trade adjustment assistance under Section 246 of the Trade Act of 1974.”

Signed at Washington, DC this 4th day of June 2007.
Elliott S. Kushner,
Certifying Officer, Division of Trade Adjustment Assistance.

[FR Doc. E7-11477 Filed 6-13-07; 8:45 am]

BILLING CODE 4510-FN-P